DEPARTMENT OF TRANSPORTATION

Federal Motor Carrier Safety Administration

[Docket No. FMCSA-1999-6156; FMCSA-2000-7918; FMCSA-2001-10578; FMCSA-2003-15268; FMCSA-2003-15892; FMCSA-2005-21711; FMCSA-2005-22194; FMCSA-2005-22727; FMCSA-2006-24783; FMCSA-2006-25246; FMCSA-2007-0017; FMCSA-2007-26653; FMCSA-2007-27897; FMCSA-2009-0154; FMCSA-2009-0303; FMCSA-2010-0082; FMCSA-2011-0142; FMCSA-2011-0189; FMCSA-2011-0275; FMCSA-2011-0298; FMCSA-2011-0299; FMCSA-2011-26690; FMCSA-2013-0027; FMCSA-2013-0029; FMCSA-2013-0030; FMCSA-2013-0165; FMCSA-2013-0166; FMCSA-2013-0167; FMCSA-2013-0168; FMCSA-2013-0169; FMCSA-2013-0170]

Qualification of Drivers; Exemption Applications; Vision

AGENCY: Federal Motor Carrier Safety Administration (FMCSA), DOT.

ACTION: Notice of final disposition.

SUMMARY: FMCSA announces its decision to renew the exemptions from the vision requirement in the Federal Motor Carrier Safety Regulations for 120 individuals. FMCSA has statutory authority to exempt individuals from the vision requirement if the exemptions granted will not compromise safety. The Agency has concluded that granting these exemption renewals will provide a level of safety that is equivalent to or greater than the level of safety maintained without the exemptions for these commercial motor vehicle (CMV) drivers.

DATES: Each group of renewed exemptions are effective from the dates stated in the discussions below.

FOR FURTHER INFORMATION CONTACT: Christine A. Hydock, Chief, Medical Programs Division, 202-366-4001, fmcsamedical@dot.gov, FMCSA, Department of Transportation, 1200 New Jersey Avenue SE., Room W64-224, Washington, DC 20590-0001. Office hours are from 8:30 a.m. to 5 p.m. Monday through Friday, except Federal holidays.

SUPPLEMENTARY INFORMATION:

I. Electronic Access

You may submit comments using the following Federal Docket Management System (FDMS) Docket Nos. discussed in this notice using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The Federal Docket Management System (FDMS) is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

On December 24, 2015, FMCSA published a notice of intent to renew the exemptions of drivers who have previously held exemptions, and requested comments from the public (80 FR 80443). The 120 individuals have held exemptions from the vision requirement in 49 CFR 391.41(b)(10) for drivers who operate CMVs in interstate commerce.

Under 49 U.S.C. 31136(e) and 31315, FMCSA may renew an exemption from the vision requirements in 49 CFR 391.41(b)(10), which applies to drivers of CMVs in interstate commerce, for a two-year period if it finds “such exemption would likely achieve a level of safety that is equivalent to or greater than the level that would be achieved absent such exemption.” The procedures for requesting an exemption (including renewals) are set out in 49 CFR part 381.

III. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315, FMCSA will take immediate steps to revoke the exemption of a driver. FMCSA encourages you to participate by submitting comments and related materials.

IV. Basis for Renewing Exemptions

This notice addresses 120 individuals who have requested renewal of their exemptions in accordance with FMCSA procedures. FMCSA has evaluated these 120 applications for renewal on their merits and decided to extend each exemption for a renewable two-year period.

In accordance with 49 U.S.C. 31136(e) and 31315, the following groups of drivers received renewed exemptions in the month of January and are discussed below.

As of January 3, 2016 the following 41 individuals have satisfied the conditions for obtaining a renewed exemption from the vision requirements (64 FR 54948; 65 FR 159; 66 FR 53826; 66 FR 66966; 66 FR 66969; 68 FR 69432; 68 FR 69434; 70 FR 53412; 70 FR 57353; 70 FR 72689; 70 FR 74102; 71 FR 32183; 71 FR 41310; 71 FR 644; 72 FR 180; 72 FR 8417; 72 FR 9397; 72 FR 36099; 72 FR 39879; 72 FR 52419; 72 FR 62897; 72 FR 71995; 73 FR 60398; 74 FR 8302; 74 FR 34394; 74 FR 37295; 74 FR 41971; 74 FR 48343; 74 FR 60021; 74 FR 65847; 75 FR 25917; 75 FR 39727; 76 FR 12216; 76 FR 34135; 76 FR 49528; 76 FR 53708; 76 FR 54530; 76 FR 55465; 76 FR 61143; 76 FR 64169; 76 FR 64171; 76 FR 67246; 76 FR 70210; 76 FR 70212; 76 FR 75942; 76 FR 75943; 76 FR 79760; 78 FR 24798; 78 FR 34143; 78 FR 41975; 78 FR 46407; 78 FR 47818; 78 FR 52602; 78 FR 56986; 78 FR 62935; 78 FR 63302; 78 FR 63307; 78 FR 64274; 78 FR 65032; 78 FR 66099; 78 FR 67452; 78 FR 67460; 78 FR 76395; 78 FR 76705; 78 FR 77778; 78 FR 77780; 78 FR 77782; 78 FR 78477; 80 FR 80443):

Terry L. Baker (KY)

Woodrow E. Bohley (MO)

Jason W. Bowers (OR)

Scott Brady (FL)

Kenneth E. Bross (MO)

Junior Chavarria (NM)

William Chisley (MD)

Walter F. Crean, III (CT)

Terry D. Elliott (TN)

Ronnie J. Fieck (WI)

Frederick E. Foster (VA)

Gerald W. Fox (PA)

Raymond L. Herman (NY)

Wesley V. Holland (NC)

Darryl H. Johnson (WV)

Carol Kelly (IN)

Martin D. Keough (NY)

Richard H. Kind (WA)

Eric L. Kinner (NY)

Volga Kirkwood (MO)

Richard L. Loeffelholz (WI)

Stanley B. Marshall (GA)

Herman C. Mash (NC)

James McCleary (OH)

Humberto Mendoza (TX)

Marvin L. Motes (FL)

Gerald L. Pagan (NC)

Daniel F. Perez (CA)

Robert G. Rascicot (FL)

Michael J. Robinson (WV)

Glen M. Schulz (IA)

Levi A. Shetler (OH)

Herbert W. Smith (WV)

Juan E. Sotero (FL)

James A. Spell (MD)

Timothy R. Steckman (IL)

Paul D. Stoddard (NY)

Harry J. Stoever, Jr. (NJ)

Eric Taniguchi (HI)

Benny R. Toothman (PA)

Stephen H. Ward (MO)

The drivers were included in one of the following dockets: Docket Nos. FMCSA-1999-6156; FMCSA-2001-10578; FMCSA-2005-22194; FMCSA-2006-24783; FMCSA-2006-25246; FMCSA-2007-26653; FMCSA-2007-27897; FMCSA-2009-0154; FMCSA-2010-0082; FMCSA-2011-0142; FMCSA-2011-0189; FMCSA-2011-26690; FMCSA-2013-0027; FMCSA-2013-0029; FMCSA-2013-0030; FMCSA-2013-0165; FMCSA-2013-0166; FMCSA-2013-0168; FMCSA-2013-0169. Their exemptions are effective as of January 3, 2016 and will expire on January 3, 2018.

As of January 5, 2016, the following 3 individuals have satisfied the conditions for obtaining a renewed exemption from the vision requirements (76 FR 70213; 77 FR 541; 78 FR 74223; 80 FR 80443):

Michael P. Eisenreich (MN)

John T. Thor (MN)

George G. Ulferts, Jr. (IA)

The drivers were included in one of the following dockets: Docket No. FMCSA-2011-0298. Their exemptions are effective as of January 5, 2016 and will expire on January 5, 2018.

As of January 8, 2016, the following 10 individuals have satisfied the conditions for obtaining a renewed exemption from the vision requirements (72 FR 67340; 73 FR 1395; 74 FR 65845; 76 FR 78728; 78 FR 76704; 80 FR 80443):

Richard D. Becotte (NH)

Wayne A. Burnett (NC)

Boleslaw Makowski (WI)

Charles M. Moore (TX)

Gary T. Murray (GA)

Anthony D. Ovitt (VT)

Martin Postma (IL)

Steven S. Reinsvold (WI)

George E. Todd (WV)

Bradley A. Weiser (OH)

The drivers were included in one of the following dockets: Docket No. FMCSA-2007-0017. Their exemptions are effective as of January 8, 2016 and will expire on January 8, 2018.

As of January 9, 2016, the following individual, Juan R. Andrade (TX), has satisfied the conditions for obtaining a renewed exemption from the vision requirements (78 FR 64271; 79 FR 2748; 80 FR 80443). The driver was included in the following docket: Docket No. FMCSA-2013-0167. The exemption is effective as of January 9, 2016 and will expire on January 9, 2018.

As of January 15, 2016, the following 15 individuals have satisfied the conditions for obtaining a renewed exemption from the vision requirements (78 FR 64271; 79 FR 2748; 80 FR 80443):

Ronald C. Ashley (GA)

Miguel A. Calderon (CA)

Terry L. Cliffe (IL)

Andrew S. Durward (IL)

James P. Fitzgerald (MA)

Louis E. Henry, Jr. (KY)

Adam S. Larson (CO)

Sally A. Leavitt (NV)

Glenn H. Lewis (OH)

Leonardo Lopez (NE)

Larry P. Magrath (MN)

Richard J. Pauxtis (OR)

Johnny L. Powell (MD)

Roy A. Whitaker (TX)

Sammy D. Wynn (GA)

The drivers were included in one of the following dockets: Docket No. FMCSA-2013-0167. Their exemptions are effective as of January 15, 2016 and will expire on January 15, 2018.

As of January 24, 2016, the following 7 individuals have satisfied the conditions for obtaining a renewed exemption from the vision requirements (76 FR 64164; 76 FR 70213; 76 FR 73769; 77 FR 541; 77 FR 3547; 79 FR 2247; 80 FR 80443):

Adam O. Carson (MS)

Marion J. Coleman, Jr. (KY)

Lex A. Fabrizio (UT)

Mark A. Ferris (IA)

Roger W. Hammack (AL)

Herman Martinez (NM)

Gilford J. Whittle (GA)

The drivers were included in one of the following dockets: Docket No. FMCSA-2011-0275; FMCSA-2011-0298; FMCSA-2011-0299. Their exemptions are effective as of January 24, 2016 and will expire on January 24, 2018.

As of January 27, 2016, the following 13 individuals have satisfied the conditions for obtaining a renewed exemption from the vision requirements (65 FR 66286; 66 FR 13825; 68 FR 10300; 68 FR 37197; 68 FR 52811; 68 FR 61860; 70 FR 41811; 70 FR 48797; 70 FR 48798; 70 FR 48799; 70 FR 48800; 70 FR 48801; 70 FR 57353; 70 FR 61165; 70 FR 71884; 70 FR 72689; 71 FR 4632; 72 FR 52422; 72 FR 58359; 72 FR 62897; 73 FR 1395; 73 FR 5259; 74 FR 60021; 74 FR 64124; 74 FR 65845; 75 FR 1451; 77 FR 545; 78 FR 78475; 80 FR 80443):

Arthur L. Bousema (CA)

Norman E. Braden (CO)

Matthew W. Daggs (MO)

Donald R. Date, Jr. (MD)

Gordon R. Fritz (WI)

Ronald K. Fultz (KY)

John E. Kimmet, Jr. (WA)

Robert C. Leathers (MO)

Jason L. Light (ID)

Kenneth R. Murphy (WA)

Michael J. Richard (LA)

Robert E. Sanders (PA)

Robert A. Sherry (PA)

The drivers were included in one of the following dockets: Docket No. FMCSA-2000-7918; FMCSA-2003-15268; FMCSA-2003-15892; FMCSA-2005-21711; FMCSA-2005-22194; FMCSA-2005-22727. Their exemptions are effective as of January 27, 2016 and will expire on January 27, 2018.

As of January 28, 2016, the following 9 individuals have satisfied the conditions for obtaining a renewed exemption from the vision requirements (74 FR 60022; 75 FR 4623; 77 FR 543; 78 FR 76707; 80 FR 80443):

James J. Coffield (NM)

Roy E. Crayne (WA)

James A. Dubay (MI)

Donald E. Halvorson (NM)

Roger D. Kool (IA)

Phillip J.C. Locke (CO)

Brian T. Nelson (MN)

Christopher M. Rivera (NM)

Robert E. Whitney (IL)

The drivers were included in one of the following dockets: Docket No. FMCSA-2009-0303. Their exemptions are effective as of January 28, 2016 and will expire on January 28, 2018.

As of January 29, 2016, the following 21 individuals have satisfied the conditions for obtaining a renewed exemption from the vision requirements (78 FR 67454; 79 FR 4803; 80 FR 80443):

Calvin J. Barbour (NY)

Martin D. Bellcour (WI)

Walter A. Breeze (OH)

Donald G. Carstensen (IA)

Jamie D. Daniels (IA)

Mark A. Farnsley (IN)

Michael L. Fiamingo (PA)

Kenric J. Fields (DE)

Randall Hjelmtveit (MN)

Randy G. Kinney (IL)

Hector Marquez (TX)

Dennis R. Martinez (NM)

Fred A. Miller, Jr. (CA)

Joseph K. Parley (WI)

Robert L. Pearson (GA)

Ryan R. Ross (SC)

Troy M. Ruhlman (PA)

Hershel D. Volentine (LA)

Gary D. Vollertsen (CO)

David R. Webb, Jr. (IL)

Wesley A. Willis (NJ)

The drivers were included in one of the following dockets: Docket No. FMCSA-2013-0170. Their exemptions are effective as of January 29, 2016 and will expire on January 29, 2018.

Each of these 120 applicants has requested renewal of the exemption and has submitted evidence showing that the vision in the better eye continues to meet the requirement specified at 49 CFR 391.41(b)(10) and that the vision impairment is stable. In addition, a review of each record of safety while driving with the respective vision deficiencies over the past two years indicates each applicant continues to meet the vision exemption requirements.

These factors provide an adequate basis for predicting each driver's ability to continue to drive safely in interstate commerce. Therefore, FMCSA concludes that extending the exemption for each renewal applicant for a period of two years is likely to achieve a level of safety equal to that existing without the exemption.

V. Conditions and Requirements

The exemptions are extended subject to the following conditions: (1) That each individual has a physical examination every year (a) by an ophthalmologist or optometrist who attests that the vision in the better eye continues to meet the requirements in 49 CFR 391.41(b)(10), and (b) by a medical examiner who attests that the individual is otherwise physically qualified under 49 CFR 391.41; (2) that each individual provides a copy of the ophthalmologist's or optometrist's report to the medical examiner at the time of the annual medical examination; and (3) that each individual provide a copy of the annual medical certification to the employer for retention in the driver's qualification file and retains a copy of the certification on his/her person while driving for presentation to a duly authorized Federal, State, or local enforcement official.

VI. Conclusion

Based upon its evaluation of the 120 exemption applications, FMCSA renews the exemptions of the aforementioned drivers from the vision requirement in 49 CFR 391.41(b)(10), subject to the requirements cited above (49 CFR 391.64(b)).

In accordance with 49 U.S.C. 31136(e) and 31315, each exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

If the exemption is still effective at the end of the 2-year period, the person may apply to FMCSA for a renewal under procedures in effect at that time.

Issued on: June 7, 2016.
Larry W. Minor,
Associate Administrator for Policy.

[FR Doc. 2016-14141 Filed 6-14-16; 8:45 am]

BILLING CODE 4910-EX-P